ENVIRONMENTAL PROTECTION AGENCY

40 CFR Part 300

[FRL-7003-6]

National Oil and Hazardous Substances Pollution Contingency Plan; National Priorities List

AGENCY: Environmental Protection Agency (EPA).

ACTION: Partial direct final deletion of the Jacobs Smelter Superfund Site from the National Priorities List (NPL).

SUMMARY: The Environmental Protection Agency (EPA) Region VIII announces its deletion of the residential soil portions of the Jacobs Smelter Superfund Site, Utah, known as Operable Unit One (OU1), from the National Priorities List and requests public comment on this action. The NPL constitutes Appendix B to the National Oil and Hazardous Substances Pollution Contingency Plan (NCP), 40 CFR Part 300, which EPA promulgated pursuant to Section 105 of the Comprehensive Environmental Response, Compensation, and Liability Act (CERCLA). This partial deletion of the Jacobs Smelter Site is in accordance with 40 CFR 300.425(e) and the Notice of Policy Change: Partial Deletion of Sites Listed on the National Priorities List. 60 FR 55466 (Nov. 1, 1995).

This partial deletion affects only OU1—the residential soils portion of the Jacobs Smelter Site which is within, but not all inclusive of, the town limits of Stockton, Utah. The Utah Department of Environmental Quality (UDEQ), under cooperative agreement with EPA, recently completed the remedial action for OU1. EPA bases its decision to delete OU1 on the joint determination by EPA and UDEQ that all appropriate actions under CERCLA have been implemented to protect human health, welfare, and the environment at OU1.

This partial deletion pertains only to OU1 and does not include Operable Unit 2 (OU2) or Operable Unit 3 (OU3). OU2 addresses other media and non-residential soils outside the general town limits of Stockton, Utah. OU3 addresses Union Pacific Railroad right of way within OU1. These OU's will remain on the NPL and response activities will continue.

DATES: This “direct final” action will be effective September 4, 2001 unless EPA receives significant adverse or critical comments by August 6, 2001. If adverse comments are received, EPA will publish a timely withdrawal of the direct final rule in the Federal Register informing the public that the rule will not take effect.

ADDRESSES: Comments may be mailed to: Mr. Jim Christiansen, Remedial Project Manager, U.S. EPA Region VIII, EPR-SR, 999 18th Street, Suite 300, Denver, CO 80202, (303) 312-6748. Email: christiansen.jim@epa.gov

Information Repositories: Comprehensive information on the Jacobs Smelter Site as well as information specific to this proposed partial deletion is available for review at EPA's Region VIII office in Denver, Colorado. The Administrative Record for OU1 and the Deletion Docket for this partial deletion are maintained at the following information repositories:U.S. EPA Region VIII, Superfund Records Center, 5th Floor, 999 18th Street, Denver, Colorado, 80202, (303) 312-6473, Hours of Operation: M-F 8:00 a.m. to 4:30 p.m.Tooele County Library, 100 West Vine Street, Tooele, Utah, 84074

FOR FURTHER INFORMATION CONTACT: Mr. Jim Christiansen, Remedial Project Manager, U.S. EPA Region VIII, EPR-SR, 999 18th Street, Suite 300, Denver, CO 80202, (303) 312-6748. Email: christiansen.jim@epa.gov

SUPPLEMENTARY INFORMATION:

Table of Contents

I. Introduction

II. NPL Deletion Criteria

III. Deletion Procedures

IV. Basis for Intended Partial Deletion

I. Introduction

The United States Environmental Protection Agency (EPA) Region VIII announces its deletion of the residential soil portion of the Jacobs Smelter Superfund Site, known as Operable Unit One (OU1), from the National Priorities List (NPL), which constitutes Appendix B of the National Oil and Hazardous Substances Pollution Contingency Plan (NCP), 40 CFR part 300, and requests public comment on this action.

The Jacobs Smelter Site is located in Tooele County, Utah. OU1 is within, but not all inclusive of, the town limits of Stockton, Utah, and consists of privately owned residential properties and vacant lots. Also included are several vacant lots, dirt roads, and dirt alleys. The OU is generally bounded by the extent of single-family residential lots centered on Stockton.

In July 1999, EPA issued a Record of Decision (ROD) for OU1 that called for remediation of approximately 130 residential properties within the town of Stockton. Based on the ROD, the Utah Department of Environmental Quality (UDEQ), under cooperative agreement with EPA, completed a remedial action for OU1 in March 2001. EPA bases its proposal to delete OU1 on the joint determination by EPA and UDEQ that all appropriate actions under CERCLA have been implemented to protect human health, welfare, and the environment at OU1. Response activities at OU Nos. 2 and 3 will continue and these OU's will remain on the NPL.

The NPL is a list maintained by EPA of sites that EPA has determined present a significant risk to public health, welfare, or the environment. Sites on the NPL may be the subject of remedial actions financed by the Hazardous Substances Superfund (Fund). Pursuant to 40 CFR 300.425(e) of the NCP, any site or portion of a site deleted from the NPL remains eligible for Fund-financed remedial actions if conditions at the site warrant such action.

EPA will accept comments concerning this partial deletion for thirty (30) days following publication of this notice in the Federal Register and a newspaper of record.

II. NPL Deletion Criteria

The NCP establishes the criteria that EPA uses to delete sites from the NPL. In accordance with 40 CFR 300.425(e), sites may be deleted from the NPL where no further response is appropriate to protect public health or the environment. In making such a determination pursuant to 40 CFR 300.425(e), EPA will consider, in consultation with the State, whether any of the following criteria have been met:

Section 300.425(e)(1)(i). Responsible parties or other persons have implemented all appropriate response actions required; or

Section 300.425(e)(1)(ii). All appropriate Fund-financed response under CERCLA has been implemented, and no further response action by responsible parties is appropriate; or Section 300.425(e)(1)(iii). The remedial investigation has shown that the release poses no significant threat to public health or the environment, and, therefore, taking of remedial measures is not appropriate.

Deletion of a portion of a site from the NPL does not preclude eligibility for subsequent Fund-financed actions at the area deleted if future site conditions warrant such actions. Section 300.425(e)(3) of the NCP provides that Fund-financed actions may be taken at sites that have been deleted from the NPL. A partial deletion of a site from the NPL does not affect or impede EPA's ability to conduct CERCLA response activities at areas not deleted and remaining on the NPL. In addition, deletion of a portion of a site from the NPL does not affect the liability of responsible parties or impede agency efforts to recover costs associated with response efforts.

III. Deletion Procedures

Deletion of a portion of a site from the NPL does not itself create, alter, or revoke any person's rights or obligations. The NPL is designed primarily for informational purposes and to assist Agency management.

The following procedures were used for the deletion of OU1 of the Jacobs Smelter Site:

(1) EPA has recommended the partial deletion and has prepared the relevant documents.

(2) The State of Utah, through the Utah Department of Environmental Quality, concurred in a letter dated May 10, 2001, with this partial deletion.

(3) Concurrent with this national Notice of Intent for Partial Deletion, a notice has been published in a newspaper of record and has been distributed to appropriate Federal, State, and local officials, and other interested parties. These notices announce a thirty (30) day public comment period on the deletion package, which commences on the date of publication of this notice in the Federal Register and a newspaper of record.

(4) EPA has made all relevant documents available at the information repositories listed previously.

This Federal Register document, and a concurrent notice in a newspaper of record, announce the initiation of a thirty (30) day public comment period and the availability of the Notice of Partial Direct Deletion. The public is asked to comment on EPA's decision to delete OU1 from the NPL. All critical documents needed to evaluate EPA's decision are included in the Deletion Docket and are available for review at the EPA Region VIII information repositories. EPA is requesting only dissenting comments on the Direct Final Action to Delete. EPA Region VIII will accept and evaluate public comments on this action before making a final decision to delete. If necessary, EPA will prepare a Responsiveness Summary for comments received during the public comment period and will address concerns presented in the comments. The Responsiveness Summary will be made available to the public at the information repositories listed previously.

IV. Basis for Intended Partial Site Deletion

The following provides EPA's rationale for deletion of OU1 from the NPL and EPA's finding that the criteria in 40 CFR 300.425(e) are satisfied:

Background

The Jacobs Smelter Site is located in and around Stockton, Utah. Contamination at the site originated from historic smelting and milling activities that occurred primarily in the 1870s and 1880s. Several former smelter locations have been found, including the Jacobs, the Waterman, the Chicago, and the Carson-Buzzo. Soil contamination from these sources is often intermingled and difficult to attribute to a particular smelter operation. The Jacobs Smelter was the largest of these operations and was located within the current town limits of Stockton. Waste from the Jacobs Smelter contaminated the surrounding soils of Stockton. The primary contaminants at the site are heavy metals, with lead and arsenic the primary contaminants of concern regarding human health.

In order to expedite Superfund response action at the site, EPA divided the site into three operable units:

OU1—Residential soils

OU2—Non-residential Soils, other media

OU3—Union Pacific Railroad right of way

EPA has been investigating, conducting human health risk assessments, and making CERCLA response action decisions for each OU separately.

OU1 comprises residential properties within, but not all inclusive of, the town limits of Stockton, Utah. Also included are several vacant lots, dirt roads, and dirt alleys. The OU is generally bounded by the extent of single-family residential lots centered on Stockton.

The Jacobs Smelter, formerly located in the northeast corner of Stockton, operated for a short period in the late 1800s and intermittently for several decades after. The smelter and an associated milling operation sat on a topographic high relative to Stockton. Waste material, such as slag, was deposited around the smelter during normal operations. Rainfall and snow melt transported the waste downhill through the town toward Rush Lake, approximately ½ mile to the west of OU1. A large portion of the residential properties in Stockton were eventually contaminated. A responsible party search conducted by EPA found no remaining viable parties associated with the operation or ownership of the Jacobs Smelter.

In 1997-98, UDEQ performed a preliminary assessment/site inspection of the area. Elevated levels of heavy metals were found in soils around the site and in the sediments of Rush Lake. The potential for significant exposure to area residents was established. Based on this information and subsequent information collected by EPA Region VIII, the site was proposed to the NPL on July 22, 1999 (64 FR 39886). The final listing was published in the Federal Register on February 4, 2000 (65 FR 5435).

OU1 Response Actions

Sampling performed by EPA Region VIII in 1998 established the general extent of contamination in the vicinity of Stockton. This sampling also identified approximately 29 residential properties that contained levels of lead in soils (greater than 3000 parts per million) deemed to present an acute threat to human health. In 1999, Region VIII conducted a Fund-financed time critical removal action for OU1. Soils from the 29 properties were excavated to a depth of 18 inches and disposed of at an off-site landfill, and clean backfill was placed on the excavated properties. Additionally, the source area of the former Jacobs Smelter was excavated to ensure contamination would not migrate in the future.

During the removal action, UDEQ conducted a remedial investigation/feasibility study (RI/FS) for the remaining areas of OU1. A ROD was published in July 1999 which defined the boundary of OU1 and called for similar excavation and backfill of approximately 130 additional residential properties, vacant lots, dirt roads, and alleys with surface soil lead concentrations greater than 500 parts per million, subsurface soil lead concentrations greater than 800 parts per million, or surface arsenic concentration greater than 100 parts per million. Institutional controls designed to preserve the remedy and prevent exposure to soils not excavated during remedial action were also called for.

In February 2000, immediately after final listing of the site on the NPL, UDEQ began the Fund-financed remedial action for OU1. The remedial action was completed in March 2001, and all remedial action objectives and performance standards set forth in the ROD were met. The Town of Stockton passed a local ordinance implementing the institutional controls requirement in the ROD on May 8, 2000. A remedial action completion report was signed in March 2001, indicating that no further CERCLA action is necessary to protect human health and the environment at OU1.

Community Involvement

Public participation requirements for OU1 have been satisfied as required in CERCLA Section 113(k), 42 U.S.C. 9613(k), and Section 117, 42 U.S.C. 9617. The Remedial Investigation Reports, Baseline Human Health Risk Assessment Report, and the Proposed Plan for OU1 were formally released to the public on May 27, 1999. The notice of availability of the Proposed Plan was published in the Tooele Transcript-Bulletin on May 27, 1999. The public comment period for the proposed plan ran from May 27, 1999 to July 15, 1999. A public meeting was held on June 9, 1999 to receive public comments from the community. Responses to all comments received during the public comment period were included in the Responsiveness Summary included in the ROD for OU1. Additionally, the administrative record for OU1 was made available at the Tooele Public Library throughout the OU1 investigation process. Monthly town forums were held to receive feedback and disseminate information throughout the OU1 investigation and cleanup process.

Current Status

Based on the successful completion of EPA's removal action and UDEQ's remedial action, there are no further response actions planned or scheduled for OU1. Pursuant to the NCP, a five-year review will be performed at OU1.

While EPA and UDEQ do not believe that any future response actions at OU1 will be needed, if future conditions warrant such action, the proposed deletion area remain eligible for future Fund-financed response actions. Furthermore, this partial deletion does alter the status of OU2 or OU3 which are not proposed for deletion and remain on the NPL.

EPA, with concurrence from the State of Utah, has determined that all appropriate CERCLA response actions have been completed at OU1 and protection of human health and the environment has been achieved. Therefore, EPA is deleting OU1 of the Jacobs Smelter Superfund Site from the NPL. This action will be effective July 31, 2001. However, if EPA receives dissenting comments within thirty (30) days following publication of this notice in the Federal Register, EPA will publish a document that withdraws this action.

List of Subjects in 40 CFR Part 300

Environmental protection, Air pollution control, Chemicals, Hazardous substances, Hazardous waste, Intergovernmental relations, Penalties, Reporting and recordkeeping requirements, Superfund, Water pollution control, Water supply.

Dated: June 15, 2001.
Patricia D. Hull,
Acting Regional Administrator,U.S. Environmental Protection Agency, Region VIII.

Title 40, chapter 1 of the Code of Federal Regulations is amended as follows:

PART 300—[AMENDED]

1. The authority citation for part 300 continues to read as follows:

Authority: 33 U.S.C. 1321(c)(2); 42 U.S.C. 9601-9657; E.O. 12777, 56 FR 54757, 3 CFR, 1991 Comp.; p. 351, E.O. 12580, 52 FR 2923, 3 CFR 1987 Comp., p. 193.

Appendix B—[Amended]

2. Table 1 of Appendix B to Part 300 is amended under UT by revising the entry for “Jacobs Smelter” to read as follows:

Appendix B to Part 300—National Priorities List

Table 1.—General Superfund Section
State | Site name | City/county | Notes (a)
* * * * *
UT | Jacobs Smelter | Stockton/Tooele | P
* * * * *
(a) * * *
P = Sites with partial deletion(s)

[FR Doc. 01-16434 Filed 7-3-01; 8:45 am]

BILLING CODE 6560-50-P